OFFICE OF MANAGEMENT AND BUDGET

Draft 2011 Report to Congress on the Benefits and Costs of Federal Regulations

AGENCY: Office of Management and Budget, Executive Office of the President.

ACTION: Notice of availability and request for comments.

SUMMARY: The Office of Management and Budget (OMB) requests comments on its Draft 2011 Report to Congress on the Benefits and Costs of Federal Regulations. The Draft Report is divided into four chapters. Chapter I examines the benefits and costs of major Federal regulations issued in fiscal year 2010 and summarizes the benefits and costs of major regulations issued between October 2000 and September 2010. It also discusses regulatory impacts on State, local, and Tribal governments, small business, wages, and economic growth. Chapter II offers recommendations for regulatory reform. Chapter III provides an update on implementation of the Information Quality Act. Chapter IV summarizes agency compliance with the Unfunded Mandates Reform Act.

DATES: To ensure consideration of comments as OMB prepares the final version of this draft Report for submission to Congress, comments must be in writing and received by May 16, 2011. Comments on retrospective analysis studies are particularly appreciated by May 2, 2011.

ADDRESSES: Submit comments by one of the following methods:

• E-mail:

○ For comments on the Draft 2011 Report to Congress on the Benefits and Costs of Federal Regulations: cb-report@omb.eop.gov.

○ For comments on retrospective analysis studies: retro-analysis@omb.eop.gov. Suggestions about particular rules that should be reevaluated, as well as studies of particular rules, should be directed to the agencies themselves.

• Fax: (202) 395-7285.

• Mail: Office of Information and Regulatory Affairs, Office of Management and Budget, NEOB, Room 10102, 725 17th Street, NW., Washington, DC 20038. We are still experiencing delays in the regular mail, including first class and express mail. To ensure that your comments are received, we recommend that comments on this draft report be electronically submitted.

All comments and recommendations submitted in response to this notice will be made available to the public, including by posting them on OMB's Web site. For this reason, please do not include in your comments information of a confidential nature, such as sensitive personal information or proprietary information.

FOR FURTHER INFORMATION CONTACT: Office of Information and Regulatory Affairs, Office of Management and Budget, NEOB, Room 10102, 725 17th Street, NW., Washington, DC 20503. Telephone: (202) 395-3741.

SUPPLEMENTARY INFORMATION: Congress directed the Office of Management and Budget (OMB) to prepare an annual Report to Congress on the Costs and Benefits of Federal Regulations. Specifically, Section 624 of the FY 2001 Treasury and General Government Appropriations Act, also known as the “Regulatory Right-to-Know Act,” (the Act) requires OMB to submit a report on the costs and benefits of Federal regulations together with recommendation for reform. The Act states that the report should contain estimates of the costs and benefits of regulations in the aggregate, by agency and agency program, and by major rule, as well as an analysis of impacts of Federal regulation on State, local, and Tribal governments, small businesses, wages, and economic growth. The Act also states that the report should be subject to notice and comment and peer review.

In this draft Report, available at: http://www.whitehouse.gov/omb/inforeg_regpol_reports_congress/, OMB offers the following recommendations:

1. Consistent with Executive Order 13563, regulatory decisions and priority-setting should be made in a way that is attentive to the importance of promoting economic growth, innovation, job creation, and competitiveness.

2. Agencies should accompany all economically significant regulations with (1) a tabular presentation, placed prominently and offering a clear statement of qualitative and quantitative benefits and costs of the proposed or planned action, together with (2) a presentation of uncertainties and (3) similar information for reasonable alternatives to the proposed or planned action.

3. Agencies should continue to use “breakeven analysis” when quantification is not possible, with such analysis defined as the specification of how high the unquantified or unmonetized benefits would have to be in order for the benefits to justify the costs.

4. Consistent with OMB Circular A-4, for regulations intended to reduce mortality risks, agencies should consider the use of cost-effectiveness analysis and, specifically, the development of estimates for the “net cost per life saved.”

5. Consistent with Executive Order 13563, and in particular the emphasis on “the open exchange of information and perspectives among state, local, and tribal officials, experts in relevant disciplines, affected stakeholders in the private sector, and the public as a whole,” agencies should promote public participation and transparency through the use of regulations.gov and other technological means.

6. In order to promote trade and exports, agencies should promote regulatory cooperation initiatives alongside key trading partners.

Consistent with Executive Order 13563, OMB is especially interested in how to improve retrospective analysis of existing rules. OMB requests information about published and unpublished studies, conceptual and empirical, involving such retrospective analysis. OMB also requests suggestions about how to improve understanding of the accuracy of prospective analyses of rules and how to undertake retrospective analysis. Methodological suggestions are particularly welcome. Suggestions about particular rules that should be reevaluated, as well as studies of particular rules, should be directed to the agencies themselves.

Cass R. Sunstein,
Administrator, Office of Information and Regulatory Affairs.

[FR Doc. 2011-7504 Filed 3-29-11; 4:15 pm]

BILLING CODE 3110-01-P